JOINT BOARD FOR THE ENROLLMENT OF ACTUARIES

Renewal of Charter of Advisory Committee on Actuarial Examinations

AGENCY: Joint Board for the Enrollment of Actuaries.

ACTION: Notice of Renewal of Advisory Committee.

SUMMARY: The Joint Board for the Enrollment of Actuaries announces the renewal of the charter of the Advisory Committee on Actuarial Examinations.

FOR FUTHER INFORMATION CONTACT: Patrick McDonough, 703-414-2173.

SUPPLEMENTARY INFORMATION: The purpose of the Advisory Committee on Examinations (Advisory Committee) is to advise the Joint Board for the Enrollment of Actuaries (Joint Board) on examinations in actuarial mathematics and methodology. The Joint Board administers such examinations in discharging its statutory mandate to enroll individuals who wish to perform actuarial services with respect to pension plans subject to the Employee Retirement Income Security Act of 1974. The Advisory Committee's functions include, but are not necessarily limited to, considering and recommending examination topics, developing examination questions, recommending proposed examinations and pass marks, and as requested by the Joint Board, making recommendations relative to the examination program.

Dated: October 6, 2014.
David Ziegler,
Chairman, Joint Board for the Enrollment of Actuaries.

[FR Doc. 2014-24404 Filed 10-14-14; 8:45 am]

BILLING CODE 4830-01-P